DEPARTMENT OF AGRICULTURE

Rural Utilities Service

Basin Electric Power Cooperative, Inc.; Notice of Intent To Hold Public Scoping Meeting and Prepare an Environmental Assessment

AGENCY: Rural Utilities Service, USDA.

ACTION: Notice of Intent To Hold Public Scoping Meeting and Prepare an Environmental Assessment (EA).

SUMMARY: The Rural Utilities Service (RUS) an Agency delivering the U.S. Department of Agriculture's Rural Development Utilities Programs, hereinafter referred to as Rural Development and/or Agency, intends to hold a public scoping meeting and prepare an Environmental Assessment (EA) in connection with possible impacts related to a project being proposed by Basin Electric Power Cooperative, Inc. (Basin Electric), of Bismarck, North Dakota. The proposal consists of the construction and operation of a natural gas-fired combustion turbine generation facility referred to as the Culbertson Unit 1 East Side Peaking Project, consisting of a single maximum net 100 Megawatt (MW) unit, at a site near Culbertson, Montana.

DATES: RUS will conduct the public scoping meeting in an open-house format on February 26, 2008, from 4 p.m. to 7 p.m., Mountain Standard Time, at the Culbertson American Legion, 119 2nd Street, East, Culbertson, Montana.

FOR INFORMATION CONTACT: Richard Fristik, Senior Environmental Protection Specialist, Water and Environmental Programs, Rural Development, Utilities Programs, 1400 Independence Ave. SW., Mail Stop 1571, Washington DC 20250-1571, telephone: (202) 720-5093 or e-mail: richard.fristik@wdc.usda.gov , or Kevin L. Solie, Basin Electric Power Cooperative, Inc., 1717 East Interstate Avenue, Bismarck, ND 58503-0564, telephone: (701) 355-5495 or e-mail: ksolie@bepc.com.

SUPPLEMENTARY INFORMATION: Basin Electric proposes to construct a new 80-100 MW, simple-cycle natural gas fired turbine less than (50 MW average annual output), ancillary facilities and systems, a new natural gas pipeline to connect to the existing Northern Border Pipeline, and necessary equipment to allow connection to the Western Area Power Administration (WAPA) transmission system. Basin Electric is requesting RUS to provide financing for the proposed project. WAPA will construct a new or modify an existing electrical substation, and construct up to 12 miles of new transmission line to facilitate connection of the proposed facility to its grid, and as such has agreed to be a cooperating agency in preparation of the EA. The Montana Department of Environmental Quality (DEQ) is also a cooperating agency due to its responsibilities under the Montana Environmental Policy Act (MEPA) and for air quality permitting.

Alternatives to be considered by RUS include no action, purchased power, load management, renewable energy sources, distributed generation, and alternative site locations. Comments regarding the proposed project may be submitted (orally or in writing) at the public scoping meeting or in writing within 30 days after the February 26, 2008, scoping meeting to RUS at the address provided in this notice.

A proposal development document—Alternative Evaluation and Site Selection Study—is available for public review at RUS or Basin Electric, at the addresses provided in this notice. This study is also available at the Culbertson Public Library, 202 Broadway, Culbertson, MT 59218.

From information provided in the study mentioned above, and using input provided by government agencies, private organizations, and the public, RUS will prepare a Draft EA. The Draft EA will be available for review and comment for 45 days after distribution. A Final EA will then be prepared that considers all comments received. The Final EA will be available for review and comment for 30 days after distribution. Following the 30-day comment period, RUS will prepare either a Finding of No Significant Impact (FONSI) or an Environmental Impact Statement (EIS). Notices announcing the availability of the Draft and Final EA and a FONSI, as appropriate, will be published in the Federal Register and in local newspapers.

Any final action by RUS related to the proposed projects will be subject to, and contingent upon, compliance with all relevant Federal, State and local environmental laws and regulations and completion of the environmental review requirements as prescribed in the RUS Environmental Policies and Procedures (7 CFR Part 1794).

Dated: January 31, 2008.
James R. Newby,
Assistant Administrator, Electric Programs.

[FR Doc. E8-2101 Filed 2-5-08; 8:45 am]

BILLING CODE 3410-15-P